DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from April 20, to April 24, 2009.

For further information, please contact Edson Beall via: United States Postal Service mail, at the National Register of Historic Places, 2280, National Park Service, 1849 C St. NW., Washington, DC 20240; in person (by appointment), 1201 Eye St. NW., 8th floor, Washington, DC 20005; by fax, 202-371-2229; by phone, 202-354-2255; or by e-mail, Edson_Beall@nps.gov.

Dated: June 2, 2009.
J. Paul Loether,
Chief, National Register of Historic Places/ National Historic Landmarks Program.

KEY: State, County, Property Name, Address/Boundary, City, Vicinity, Reference Number, Action, Date, Multiple Name

California, San Francisco County, Veterans Affairs Medical Center—San Francisco, California, 4150 Clement St., San Francisco, 05001112, Listed, 4/20/09

Colorado, Montrose County, Denver & Rio Grande Western Railroad Caboose No. 0577, Approximately 1 mi. N. by NE of US 50 at Cimarron, adjacent to Morrow Point Dam Rd., Curecanti National Recreation Ctr., Cimarron, 09000222, Listed, 4/21/09

Colorado, Montrose County, Denver & Rio Grande Western Railroad Locomotive No. 278 and Tender, Approximately 1 mi. N. by NE. of US 50 at Cimarron, near Marrow Point Dam Rd., Curecanti National Recreation Center, Cimarron, 09000223, Listed, 4/21/09

Indiana, Hancock County, Lockheed PV-2 Harpoon No. 37396, 3867 N. Aviation Way, Mount Comfort, 09000234, Listed, 4/23/09

Kansas, Crawford County, Crawford County Courthouse, 111 E. Forest, Courthouse Square, Girard, 09000225, Listed, 4/22/09

(County Courthouses of Kansas MPS)

Kansas, Crawford County, St. John's Episcopal Church, SE corner of Buffalo and Summit, Girard, 09000226, Listed, 4/22/09

Kansas, Elk County, Elk County Courthouse, 127 N. Pine, Howard, 09000227, Listed, 4/22/09

(County Courthouses of Kansas MPS)

Kansas, McPherson County, Berquist & Nelson Drugstore Building, 105 N. Main St., Lindsborg, 09000228, Listed, 4/22/09

Kansas, McPherson County, Clareen—Peterson Restaurant Building, 113 N. Main St., Lindsborg, 09000229, Listed, 4/22/09

Kansas, McPherson County, Holmberg and Johnson Blacksmith Shop, 122 N. Main St., Lindsborg, 09000230, Listed, 4/22/09

Kansas, Pratt County, Parachute Building, 40131 Barker Ave., Pratt, 09000231, Listed, 4/22/09

Kansas, Sedgwick County, Ablah, Frank J. and Harvey J., House, 102-104 N. Pinecrest Ave., Wichita, 09000276, Listed, 4/21/09 (Residential Resources of Wichita, Sedgwick County, Kansas 1870-1957)

Kansas, Sedgwick County, North Topeka Avenue Apartments Historic District, 625, 630, 631, and 632 N. Topeka Ave., Wichita, 09000277, Listed, 4/21/09 (Residential Resources of Wichita, Sedgwick County, Kansas 1870-1957)

Massachusetts, Berkshire County, H.W. Clark Biscuit Company, 179-191 Ashland St., North Adams, 09000235, Listed, 4/22/09 (North Adams MRA)

Massachusetts, Bristol County, Codding Farm, The, 217 High St., North Attleborough, 09000236, Listed, 4/22/09

Montana, Meagher County, Parberry Block East, 18-20 E. Main St., White Sulphur Springs, 09000237, Listed, 4/22/09

New Hampshire, Hillsborough County, Wilton Town Hall, 42 Main St., Wilton, 09000254, Listed, 4/20/09

New York, Hamilton County, Lake Pleasant Town Hall, 2885 NY 8, Speculator, 09000238, Listed, 4/23/09

North Dakota, Grand Forks County, Grand Forks County Fairgrounds WPA Structures, 2300 Gateway Dr., Grand Forks, 08001262, Listed, 4/21/09

Oklahoma, Garfield County, Enid Terminal Grain Elevators Historic District, Near E. Willow Rd., N. 16th St., N. 10th St. and N. Van Buren St., Enid, 09000239, Listed, 4/20/09 (Grain Storage and Processing Facilities in Western Oklahoma MPS)

Oregon, Deschutes County, Elk Lake Guard Station, Deschutes National Forest, Bend/Fort Rock Rd. 4625.100, Bend vicinity, 09000240, Listed, 4/23/09

Utah, Salt Lake County, Forest Dale Historic District, Roughly bounded by 700 E., I-80, Commonwealth Ave., and 900 E., Salt Lake City, 09000241, Listed, 4/23/09

Virginia, Madison County, Hoffman Round Barn, 4864 Wolftown-Hood Rd., Wolftown vicinity, 09000242, Listed, 4/20/09

West Virginia, Cabell County, Freeman Estate, 1805 McCoy Rd., Huntington, 09000243, Listed, 4/23/09

West Virginia, Hancock County, Wells, William E., House, 372 Virginia Terr., Newell, 09000244, Listed, 4/23/09

West Virginia, Morgan County, Town of Bath Historic District, Roughly Washington and Fairfax Sts. and adjacent blocks, Berkeley Springs, 09000245, Listed, 4/23/09

Wyoming, Weston County, Newcastle Commercial District, Bounded by Burlington Northern Santa-Fe Railroad tracks and West Main St., Newcastle, 08001061, Listed, 4/21/09

[FR Doc. E9-13248 Filed 6-5-09; 8:45 am]

BILLING CODE P